DEPARTMENT OF HEALTH AND HUMAN SERVICES

Administration for Children and Families

Submission for OMB Review; Comment Request

Title: Head Start Family and Child Experiences Survey (FACES).

OMB No.: OMB No. 0970-0151.

Description: The Administration on Children, Youth and Families (ACYF), Administration for Children and Families (ACF) of the Department of Health and Human Services (DHHS) is requesting Office of Management and Budget (OMB) clearance for interview instruments to be used in the Head Start Family and Child Experiences Survey (FACES). This study is being conducted under contract with Westat, Inc. (with Ellsworth Associates as their subcontractor (#105-96-1912)) to collect information on Head Start performance measures. This revision is intended to follow-on to the current design in order to follow the sample through the end of their first grade year of school.

FACES currently involves five phases of data collection. The first phase was a Spring 1997 Field test in which approximately 2400 parents and children were studied in a nationally stratified random sample of 40 Head Start programs. The second and third phases occurred in Fall 1997 (Wave 1) and Spring 1998 (Wave 2) when data were collected on a sample of 3200 children and families in the same 40 programs. Spring 1998 data collection included assessments of both Head Start children completing the program and former Head Start children completing kindergarten (kindergarten field test) as well as interviews with their parents and ratings by their kindergarten teachers. In the fourth and fifth phases, follow-up continued for a second program year, plus a kindergarten follow-up. The current plan is to extend data collection in spring of the first-grade year for both cohorts of children, those completing kindergarten in spring 1999, and those completing kindergarten in spring 2000.

This schedule of data collection is necessitated by the mandates of the Government Performance and Results Act (GPRA) of 1993 (Pub. L. 103-62), which requires that the Head Start Bureau move expeditiously toward development and testing of Head Start Performance Measures, and by the 1994 reauthorization of Head Start (Head Start Act, as amended, May 18, 1994, Section 649 (d)), which requires assessment of Head Start's quality and effectiveness. These mandates were reinforced by the Head Start Act Reauthorization of October, 1998, which called for planning for a study of Head Start children to continue follow-up through first grade.

Respondents: Federal Government, Individuals or Households, and Not-for-profit institutions.

Annual Burden Estimates
Instrument | Estimated number of respondents | Estimated number of responses per respondent | Average burden hours per response | Estimated total annual burden hours requested
Year 1 (2000):
First grade parents | 1604 | 1 | .33 | 535
First grade children | 1604 | 1 | .75 | 1203
First grade teachers | 1604 | 1 | .50 | 802
Year 2 (2001):
All parents | 2770 | 1 | .08 | 231
First grade parents | 1166 | 1 | .33 | 389
First grade children | 1166 | 1 | .75 | 875
First grade teachers | 1166 | 1 | .50 | 583
Annualized totals:
Year 1 | 2540 |  |  |
Year 2 | 2078 |  |  |
Estimated total annual burden hours |  |  |  | 2309
Note: The 2309 annual hours is based on an average of 2000 and 2001 estimated burden hours.

Additional Information: Copies of the proposed collection may be obtained by writing to the Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information and collection should be sent directly to the following: Office of Management and Budget, Paperwork Reduction Project, 725 17th Street, N.W., Washington, D.C. 20503, Attn: Desk Officer for ACF.

Dated: April 25, 2000.
Bob Sargis,
Reports Clearance Officer.

[FR Doc. 00-10744 Filed 4-28-00; 8:45 am]

BILLING CODE 4184-01-M